DEPARTMENT OF ENERGY

Federal Energy Regulatory Commission

Combined Notice of Filings #2

Take notice that the Commission received the following electric rate filings:

Docket Numbers: ER10-2923-005.

Applicants: Sunbury Generation LP.

Description: Notice of Non-Material Change in Status of Sunbury Generation LP.

Filed Date: 3/25/14.

Accession Number: 20140325-5099.

Comments Due: 5 p.m. ET 4/15/14.

Docket Numbers: ER14-463-002.

Applicants: ISO New England Inc., New England Power Pool Participants Committee.

Description: Compliance Filing re Prec of Admi Pricing Rules to be effective 1/24/2014.

Filed Date: 3/25/14.

Accession Number: 20140325-5072.

Comments Due: 5 p.m. ET 4/15/14.

Docket Numbers: ER14-1341-002.

Applicants: Solea Energy, LLC.

Description: 2nd Amended MBR Filing to be effective 3/1/2014.

Filed Date: 3/25/14.

Accession Number: 20140325-5065.

Comments Due: 5 p.m. ET 4/15/14.

Docket Numbers: ER14-1409-000.

Applicants: ISO New England Inc.

Description: Supplement to February 28, 2013 Eighth Forward Capacity Auction Results Filing of ISO New England Inc.

Filed Date: 3/25/14.

Accession Number: 20140325-5102.

Comments Due: 5 p.m. ET 4/14/14.

Docket Numbers: ER14-1575-000.

Applicants: Wisconsin Public Service Corporation.

Description: WPSC Annual PEB/PBOP Filing to be effective 4/1/2014.

Filed Date: 3/25/14.

Accession Number: 20140325-5046.

Comments Due: 5 p.m. ET 4/15/14.

Docket Numbers: ER14-1576-000.

Applicants: Emera Maine.

Description: Request for Waiver of 18 CFR Section 37.6(k) of Emera Maine.

Filed Date: 3/21/14.

Accession Number: 20140321-5087.

Comments Due: 5 p.m. ET 4/11/14.

Docket Numbers: ER14-1577-000.

Applicants: Midcontinent Independent System Operator, Inc.

Description: 2014-03-25_SA 2477 Corn Belt—MidAm GFA 477 Agr to be effective 3/26/2014.

Filed Date: 3/25/14.

Accession Number: 20140325-5069.

Comments Due: 5 p.m. ET 4/15/14.

Docket Numbers: ER14-1578-000.

Applicants: PacifiCorp.

Description: OATT EIM edits and new Attachment T to be effective 6/20/2014.

Filed Date: 3/25/14.

Accession Number: 20140325-5071.

Comments Due: 5 p.m. ET 4/15/14.

Docket Numbers: ER14-1579-000.

Applicants: PJM Interconnection, L.L.C.

Description: Notice of Cancellation of Original Service Agreement No. 3555; Queue No. X4-023 to be effective 3/28/2014.

Filed Date: 3/25/14.

Accession Number: 20140325-5079.

Comments Due: 5 p.m. ET 4/15/14.

Docket Numbers: ER14-1580-000.

Applicants: Southwest Power Pool, Inc.

Description: Guaranty Agreement Revisions to be effective 5/24/2014.

Filed Date: 3/25/14.

Accession Number: 20140325-5082.

Comments Due: 5 p.m. ET 4/15/14.

Take notice that the Commission received the following electric securities filings:

Docket Numbers: ES14-29-000.

Applicants: PJM Interconnection, L.L.C.

Description: Application of PJM Interconnection, L.L.C., under Section 204 of the Federal Power Act for an Order authorizing the issuance of securities.

Filed Date: 3/25/14.

Accession Number: 20140325-5098.

Comments Due: 5 p.m. ET 4/15/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 25, 2014.
Nathaniel J. Davis, Sr.,
Deputy Secretary.

[FR Doc. 2014-07429 Filed 4-2-14; 8:45 am]

BILLING CODE 6717-01-P